DEPARTMENT OF THE INTERIOR

National Park Service

[NPS-WASO-NAGPRA-NPS0038219; PPWOCRADN0-PCU00RP14.R50000]

Notice of Inventory Completion: Town of Germantown, Germantown, NY

AGENCY: National Park Service, Interior.

ACTION: Notice.

SUMMARY: In accordance with the Native American Graves Protection and Repatriation Act (NAGPRA), the Town of Germantown has completed an inventory of human remains and has determined that there is a cultural affiliation between the human remains and Indian Tribes or Native Hawaiian organizations in this notice.

DATES: Repatriation of the human remains in this notice may occur on or after August 12, 2024.

ADDRESSES: Thomas Shannon, Town Historian, Germantown Town Hall, 50 Palatine Park Road, Germantown, NY 12526, telephone (518) 822-7908, email germantownhistory@gmail.com.

SUPPLEMENTARY INFORMATION: This notice is published as part of the National Park Service's administrative responsibilities under NAGPRA. The determinations in this notice are the sole responsibility of the Town of Germantown, and additional information on the determinations in this notice, including the results of consultation, can be found in the inventory or related records. The National Park Service is not responsible for the determinations in this notice.

Abstract of Information Available

Based on the information available, human remains representing, at least, one individual have been reasonably identified. No associated funerary objects are present. The individual's remains were disturbed in 1990 during the excavation and expansion of 45 Moore Road, Town of Germantown, Columbia County, New York, which overlooks the Hudson River. The Columbia County Sheriff's Department opened an investigation (Case 6641-90). On August 8, 1990, a Columbia County Sheriff's Department investigator brought the remains to the Onondaga County Medical Examiner's Office for analysis. After William C. Rodriguez, III, Ph.D., completed his analysis, the remains were stored at the Onondaga County Medical Examiner's Office until May 1, 1991, when they were returned to the Columbia County Sheriff's Office. Sometime after that, they were brought to the Town of Germantown Records Retention Room, where they have been since. The Town Historian discovered the individual's remains in the records retention room on January 13, 2024. According to the report, the remains contain portions of the cranium, distal portions of the left and right humeri, proximal end of the right ulnae, right tibial mid-shaft, superior portions of the left and right scapula, superior half of the left innominate, both femurs, rib fragments, right temporal and parietal bone portions, assorted phalanges of the feet, right half of the mandible, including 1st and 2nd molars, maxilla.

Cultural Affiliation

Based on the information available and the results of consultation, cultural affiliation is clearly identified by the information available about the human remains described in this notice.

Determinations

The Town of Germantown has determined that:

• The human remains described in this notice represent the physical remains of one individual of Native American ancestry.

• There is a reasonable connection between the human remains described in this notice and the Delaware Nation, Oklahoma; Delaware Tribe of Indians; and the Stockbridge Munsee Community, Wisconsin.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after August 12, 2024. If competing requests for repatriation are received, the Town of Germantown must determine the most appropriate requestor prior to repatriation. Requests for joint repatriation of the human remains are considered a single request and not competing requests. The Town of Germantown is responsible for sending a copy of this notice to the Indian Tribes and Native Hawaiian organizations identified in this notice.

Authority: Native American Graves Protection and Repatriation Act, 25 U.S.C. 3003, and the implementing regulations, 43 CFR 10.10.

Dated: June 26, 2024.
Melanie O'Brien,
Manager, National NAGPRA Program.

[FR Doc. 2024-15197 Filed 7-10-24; 8:45 am]

BILLING CODE 4312-52-P